DEPARTMENT OF TRANSPORTATION

Federal Aviation Administration

14 CFR Part 39

[Docket No. 2000-CE-26-AD]

RIN 2120-AA64

Airworthiness Directives; Cessna Aircraft Company, Models 172N, 172P, R172K, 172RG, F172N, F172P, FR172J, and FR172K Airplanes

AGENCY: Federal Aviation Administration, DOT.

ACTION: Notice of proposed rulemaking (NPRM); Extension of the comment period.

SUMMARY: This document provides additional time for the public to comment on a proposal to supersede Airworthiness Directive (AD) 80-04-08, which currently requires inspecting (one-time) the fuel line and map light switch in the left hand forward door post for chafing or arcing and repairing any damage found on certain Cessna Aircraft Company (Cessna) Model 172N, R172K, F172N, and FR172K airplanes. AD 80-04-08 also required providing at least a 0.50-inch clearance between the map light switch and the fuel line; and installing a switch cover (insulator) over the map light switch. The proposed AD would extend the inspections and installation of the switch cover requirement to certain 172N, 172P, R172K, 172RG, F172N, F172P, FR172J, and FR172K series airplanes, would require replacement of the fuel line, if damaged; and would make the switch cover inspection and replacement repetitive. Comments received on the original NPRM (66 FR 1273, January 8, 2001) specify additional time to respond to the proposed action. The actions specified by the proposed AD are intended to detect and correct any chafing between the map light switch and the bordering fuel line, which could result in a fuel leak and an in-flight fire.

DATES: The Federal Aviation Administration (FAA) must receive any comments on this proposed rule by April 13, 2001. This is extended from February 12, 2001.

ADDRESSES: Send three copies of comments to FAA, Central Region, Office of the Regional Counsel, Attention: Rules Docket No. 2000-CE-26-AD, 901 Locust, Room 506, Kansas City, Missouri 64106. You may read comments at this location between 8 a.m. and 4 p.m., Monday through Friday, except holidays.

You may get the service information referenced in the proposed AD from the Cessna Aircraft Company, P.O. Box 7706, Wichita, Kansas 67277; telephone: (316) 941-7550, facsimile: (316) 942-9008. You may look at this information at the Rules Docket at the address above.

FOR FURTHER INFORMATION CONTACT: Mr. Clyde Erwin, Aerospace Engineer, FAA, Wichita Aircraft Certification Office, 1801 Airport Road, Room 100, Mid-Continent Airport, Wichita, Kansas 67209, telephone: (316) 946-4149; facsimile: (316) 946-4407.

Issued in Kansas City, Missouri, on January 23, 2001.
David R. Showers,
Acting Manager, Small Airplane Directorate, Aircraft Certification Service.

[FR Doc. 01-3570 Filed 2-8-01; 12:29 pm]

BILLING CODE 4910-13-P